DEPARTMENT OF EDUCATION

[Docket No.: ED-2023-SCC-0174]

Agency Information Collection Activities; Comment Request; Engage Every Student Recognition Program

AGENCY: Office of the Secretary (OS), Department of Education (ED).

ACTION: Notice.

SUMMARY: In accordance with the Paperwork Reduction Act (PRA) of 1995, the Department is proposing a new information collection request (ICR).

DATES: Interested persons are invited to submit comments on or before November 28, 2023.

ADDRESSES: To access and review all the documents related to the information collection listed in this notice, please use http://www.regulations.gov by searching the Docket ID number ED-2023-SCC-174. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave SW, LBJ, Room 4C210, Washington, DC 20202-8240.

FOR FURTHER INFORMATION CONTACT: For specific questions related to collection activities, please contact Shital Shah, 202-257-6477.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Engage Every Student Recognition Program.

OMB Control Number: 1894-NEW.

Type of Review: A new ICR.

Respondents/Affected Public: Individuals and households.

Total Estimated Number of Annual Responses: 570.

Total Estimated Number of Annual Burden Hours: 855.

Abstract: The American Rescue Plan (ARP) provides funding for implementing comprehensive, evidence-based programs to ensure resources respond to students' academic, social, and emotional needs and address the disproportionate impact of COVID-19 on student populations. Using resources provided by the ARP, States, districts, and their partners can use out-of-school time (OST) to address the disproportionate impact of COVID-19 on students, families, and their communities.

Out-of-school time programs, which occur before or after the regular school day or outside of the regular school year, can include a wide range of activities, including comprehensive afterschool or summer-learning and enrichment programs, vacation academies, work-based learning programs, youth development programs, and experiential or service-learning programs.

On July 14th, 2022, the U.S. Department of Education, along with the Afterschool Alliance, AASA—the School Superintendents Association, the National Comprehensive Center at Westat, the National League of Cities and the National Summer Learning Association, launched the Engage Every Student Initiative designed to ensure that every student who wants a spot in a high-quality out-of-school time program has one.

In the Fall of 2023, the U.S. Department of Education and the five partnering organizations designed the Engage Every Student Recognition Program, which aims to recognize (1) non-profit organizations working in collaboration with school district/local education agencies (LEAs) or (2) municipalities or local government entities working in collaboration with school district/local education agencies (LEAs) that engage K-12 students in high-quality afterschool or summer learning programming, with high-quality being defined as meeting students' social, emotional, mental, and physical health, and academic needs and addressing the impact of COVID-19 on students' opportunity to learn.

Dated: September 25, 2023.
Stephanie Valentine,
PRA Coordinator, Strategic Collections and Clearance, Governance and Strategy Division, Office of Chief Data Officer, Office of Planning, Evaluation and Policy Development.

[FR Doc. 2023-21335 Filed 9-28-23; 8:45 am]

BILLING CODE 4000-01-P